NATIONAL TRANSPORTATION SAFETY BOARD

Proposed Information Collection Activity: Submission for OMB Review; Comment Request

AGENCY: National Transportation Safety Board (NTSB).

ACTION: Notice.

SUMMARY: The NTSB is announcing its plan to submit a collection of information to the Office of Management and Budget (OMB) for approval, in accordance with the Paperwork Reduction Act. This information collection is necessary to obtain the contact information of family members and friends of those persons who have been involved in transportation accidents, as well as the survivors of those accidents, who seek to receive periodic updates from the NTSB's Office of Transportation Disaster Assistance. This Notice informs the public that it may submit comments concerning the proposed use of this form to the NTSB.

DATES: Submit written comments regarding this proposed collection of information by May 29, 2012.

ADDRESSES: Respondents may submit written comments on the collection of information to the National Transportation Safety Board, Office of Communications, Transportation Disaster Assistance Division, 490 East L'Enfant Plaza SW., Washington, DC 20594.

FOR FURTHER INFORMATION CONTACT: Paul Sledzik, NTSB Office of Communications, Transportation Disaster Assistance Division, at (202) 314-6185.

SUPPLEMENTARY INFORMATION: In accordance with OMB regulations that require this Notice for proposed Information Collection Requests, the NTSB herein notifies the public that it may submit comments on this proposed information collection. 5 CFR 1320.8(d)(1). Section 1320.8(d)(1) requires an agency, prior to submitting a collection of information to OMB for approval, to “provide 60-day notice in the Federal Register, and otherwise consult with members of the public and affected agencies concerning * * * [the] proposed collection of information.” Section 1320.8(d)(1) also requires the NTSB to solicit comment on any aspect of this information collection, including: (1) Whether the proposed collection is necessary for the NTSB to perform its mission; (2) the accuracy of the estimated burden; (3) ways for the NTSB to enhance the quality, usefulness, and clarity of the collected information; and (4) ways that the burden could be minimized without reducing the quality of the collected information. The NTSB will summarize and/or include your comments in its subsequent request for OMB's clearance of this information collection pursuant to section 1320.10(a) of title 5, Code of Federal Regulations.

The NTSB will use the form to collect email and mailing addresses, as well as telephone contact information in order to provide information to survivors of transportation accidents, family members of fatally injured, and friends. The NTSB will collect this information via a paper copy of the form mailed or handed to individuals, or via a PDF form transmitted over email. The NTSB's purpose in proposing to use the form is to ensure that the NTSB has correct contact information for survivors, family members of fatally injured, and friends to whom the Transportation Disaster Assistance Division will provide information. The form will solicit the following information: (1) First and last name of family member, friend, or survivor who seeks to receive updates; (2) home, cellular, and/or other telephone number; (3) email address; (4) mailing address; (5) victim's name and description of requestor's relationship to victim; and (6) other comments or instructions, if desired.

The NTSB notes that completion of the form is voluntary. In addition, the NTSB will accept forms that are only partially completed; for example, some individuals may not wish to include their telephone numbers, but will include their email addresses. The NTSB accepts all forms that contain any type of contact information, as the NTSB is committed to providing information to and coordinating services for family members, friends, and survivors of transportation accidents. Once a person completes the form, the NTSB will add his or her name to a list of individuals whom the NTSB will contact to provide information and coordinate services.

The NTSB has carefully reviewed the form to ensure that it has used plain, coherent, and unambiguous terminology in its request for information. The form is not duplicative of other agencies' collections of information. The NTSB believes this proposed form, given its brevity, will impose a minimal burden on respondents: the NTSB estimates that respondents will spend, at most, 10 minutes in completing the form. The NTSB estimates that approximately 50 respondents per year will complete the form, but notes that this number may vary, given the unpredictable nature of the frequency of transportation accidents.

Dated: March 20, 2012.
Deborah A.P. Hersman,
Chairman.

[FR Doc. 2012-7241 Filed 3-26-12; 8:45 am]

BILLING CODE 7533-01-P